FEDERAL COMMUNICATIONS COMMISSION

47 CFR Part 54

[WC Docket No. 17-310; FCC 23-6; FR ID 135131]

Promoting Telehealth in Rural America; Correction

AGENCY: Federal Communications Commission.

ACTION: Final rule; correction.

SUMMARY: The Federal Communications Commission (Commission) is correcting a final rule that appeared in the Federal Register on March 23, 2023. In the document, amendatory instruction 4 of the rules incorrectly removed the subparagraphs to paragraph (a) when paragraph (a) was revised. This correction is made to amend instruction 4 so that only paragraph (a) introductory text be revised and the subparagraphs remain in place.

DATES: Effective April 10, 2023.

FOR FURTHER INFORMATION CONTACT: Bryan P. Boyle, Bryan.Boyle@fcc.gov, Telecommunications Access Policy Division, Wireline Competition Bureau, (202) 418-7400 or TTY: (202) 418-0484.

SUPPLEMENTARY INFORMATION: In FR Doc. 2023-04991, appearing on page 17379 in the Federal Register of Thursday, March 23, 2023, the following correction is made:

§ 54.619 [Corrected]

1. On page 17396, in the first column, in part 54, in amendment 4, the instruction “Amend § 54.619 by revising paragraph (a) to read as follows:” is corrected to read “Amend § 54.619 by revising the introductory text of paragraph (a) to read as follows:”

Federal Communications Commission.
Dated: March 23, 2023.
Marlene Dortch,
Secretary.

[FR Doc. 2023-07215 Filed 4-7-23; 8:45 am]

BILLING CODE 6712-01-P